ENVIRONMENTAL PROTECTION AGENCY

[FRL-7817-5]

Environmental Financial Advisory Board; Notice of Meeting

AGENCY: Environmental Protection Agency.

ACTION: Notice of request for nominations.

SUMMARY: The U.S. Environmental Protection Agency (EPA) invites nominations of qualified candidates to be considered for appointments to fill several vacancies on the Environmental Financial Advisory Board. The Board seeks to maintain diverse representation across sectors and geographic locations. Tribal representatives and non-profit environmental group representatives are encouraged to apply. Nominees who demonstrate expertise in commercial banking, environmental engineering, accounting and/or auditing, and/or financial insurance are also encouraged to apply. In addition to this notice, other sources may be utilized in the solicitation of nominees.

The deadline for receiving nominations is Friday, October 29, 2004. Appointments will be made by the Deputy Administrator of the Environmental Protection Agency and will be announced during January 2005. Nominees' qualifications will be assessed under the mandates of the Federal Advisory Committee Act, which requires Committees to maintain diversity across a broad range of constituencies, sectors, and groups.

Nominations for membership must include a resume describing the professional and educational qualifications of the nominee as well as experience. Contact details should include full name and title, business mailing address, telephone, fax, and e-mail address. A supporting letter of endorsement is encouraged but not required.

ADDRESSES: Submit nomination materials by postal mail, electronic mail or fax to: Vanessa Bowie, Membership Coordinator, Environmental Financial Advisory Board, EPA, Office of the Chief Financial Officer, 1200 Pennsylvania Avenue, NW. (2731R), Washington, DC 20460, e-mail bowie.vanessa@epa.gov, phone (202) 564-5186, fax (202) 565-2587.

FOR FURTHER INFORMATION CONTACT: Vanessa Bowie at (202) 564-5186.

SUPPLEMENTARY INFORMATION: The Environmental Financial Advisory Board meets two times each calendar year (two days per meeting) at different locations within the continental United States. Board members typically contribute approximately 1-3 hours per month to the Board's work. The Board membership services are voluntary. Travel and per diem expenses are covered by EPA in accordance with Federal Travel Regulations for invitational travelers.

The Board was chartered in 1989 under the Federal Advisory Committee Act to provide advice and recommendations to EPA on the following issues:

(a) Reducing the cost of financing environmental facilities and discouraging polluting behavior;

(b) Creating incentives to increase private investment in the provision of environmental services and removing or reducing constraints on private involvement imposed by current regulations;

(c) Developing new and innovative environmental financing approaches and supporting and encouraging the use of cost-effective existing approaches;

(d) Identifying approaches specifically targeted to small community financing; and

(e) Increasing the capacity issue of state and local governments to carry out their respective environmental programs under current Federal tax laws.

The following criteria will be used to evaluate nominees:

• Residence in the continental United States;

• Professional knowledge of, and experience with, environmental financing activities;

• Senior level-experience that fills a gap in Board representation, or brings a new and relevant dimension to its deliberations;

• Demonstrated ability to work in a consensus-building process with a wide range of representatives from diverse constituencies; and

• Willingness to serve a term as an actively-contributing member, with possible re-appointment to a second term.

Dated: September 16, 2004.
Joseph L. Dillon,
Director, Office of Enterprise Technology and Innovation.

[FR Doc. 04-21389 Filed 9-22-04; 8:45 am]

BILLING CODE 6560-50-P